DEPARTMENT OF HEALTH AND HUMAN SERVICES

Centers for Disease Control and Prevention

[60Day-07-07AO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of New Beginnings: A Discussion Guide for Living Well with Diabetes—New—National Center for Chronic Disease Prevention and Health Promotion (NCCDPHP), Centers for Disease Control and Prevention (CDC).

Background and Brief Description

The purpose of this study is to evaluate the utility and impact of New Beginnings: A Discussion Guide for Living Well with Diabetes, a tool developed by the National Diabetes Education Program (NDEP) to accompany an independently produced film entitled, The Debilitator. This important film highlights the myriad challenges African Americans encounter with diabetes self-management and presents strategies to help people with diabetes to gain control with help from their family and physicians. In addition to raising awareness and increasing knowledge, the discussion guide helps facilitate conversations that deepen viewers' understanding of key issues raised in the film and hopefully motivate participants to engage in desired behavior change such as improved diet, visiting a doctor or talking to family members or friends about the importance of diabetes self-management.

To evaluate the utility and impact of the discussion guide, data will be collected in several ways: (1) Thirty-six facilitators will use the New Beginnings discussion guide to lead two-hour discussion groups of no more than ten individuals. Each facilitator will complete a brief facilitator information form designed to provide descriptive information about the group session. Each participant in the discussion groups will complete a pre and post program questionnaire. A total of 360 participants 18 years or older, African American who either have diabetes or friends and/or family members of someone with diabetes will participate in the discussion groups; (2) These 360 participants will also complete a one-month follow up survey to assess whether or not desired behavior change occurred. The survey will be administered via mail, telephone and web and will take approximately 20-30 minutes to complete; (3) A selected sample of participants with diabetes (n=18) will participate in 1-hour telephone interviews to discuss their experiences with the intervention, including any challenges they faced; (4) Twenty trained and lay facilitators will participate in 1-hour in-depth interviews to discuss the usefulness of the guide; (5) A feedback form for users of the New Beginnings discussion guide will be part of the future distribution of the guide. This form is designed to provide on-going input from new users of the guide. The only cost to respondents is their time to participate in the survey.

Study Design

The study will consist of the following three groups of facilitators and participants:

Group 1: Twelve facilitators will convene groups of participants and complete the facilitator feedback forms. The same 120 participants will view the movie and complete the pre-, post-, and follow-up questionnaires.

Group 2: Twelve facilitators will convene groups of participants and complete the facilitator feedback forms. The same 120 participants will view the movie, participate in one discussion session, and complete the pre-, post-, and follow-up questionnaires.

Group 3: Twelve facilitators will convene groups of participants and complete the facilitator feedback forms for each discussion session convened. The same 120 participants will view the movie, participate in 2-4 discussion sessions, and complete the pre-, post-, and follow-up questionnaires.

Additionally:

18 participants (drawn from the total pool of 360) will participate in in-depth interviews.

Twenty trained and lay facilitators will participate in in-depth interviews.

50 facilitators will complete the feedback form that accompanies the discussion guide.

Estimated Annualized Burden Hours

Type of respondent | Form name | Number of respondents | Number responses per respondent | Average burden per response (in hours) | Total burden (in hours)
Group 1: Facilitator | Facilitator Information Form | 12 | 1 | 5/60 | 1
Group 1: Participant | View the movie | 120 | 1 | 30/60 | 60
Group 1: Participant | Pre-program questionnaire | 120 | 1 | 20/60 | 40
Group 1: Participant | Post-program questionnaire | 120 | 1 | 20/60 | 40
Group 1: Participant | Follow-up questionnaire | 120 | 1 | 20/60 | 40
Group 2: Facilitator | Facilitator Information Form | 12 | 1 | 10/60 | 2
Group 2: Participant | View the movie | 120 | 1 | 30/60 | 60
Group 2: Participant | Pre-program questionnaire | 120 | 1 | 20/60 | 40
Group 2: Participant | Post-program questionnaire | 120 | 1 | 20/60 | 40
Group 2: Participant | Participate in one facilitated discussion | 120 | 1 | 60/60 | 120
Group 2: Participant | Follow-up questionnaire | 120 | 1 | 20/60 | 40
Group 3: Facilitator | Facilitator Information Form | 12 | 4 | 10/60 | 8
Group 3: Participant | View the movie | 120 | 1 | 30/60 | 60
Group 3: Participant | Pre-program questionnaire | 120 | 1 | 20/60 | 40
Group 3: Participant | Post-program questionnaire | 120 | 4 | 60/60 | 480
Group 3: Participant | Participate in four facilitated discussions | 120 | 1 | 20/60 | 40
Group 3: Participant | Follow-up questionnaire | 120 | 1 | 20/60 | 40
Facilitator | In-depth interview | 20 | 1 | 60/60 | 20
Participant | In-depth interview | 18 | 1 | 60/60 | 18
Facilitator | Feedback Forms | 50 | 1 | 10/60 | 8.5
Total |  | 396 |  |  | 1197.5

Dated: February 28, 2007.
Joan F. Karr,
Acting Reports Clearance Officer, Centers for Disease Control and Prevention.

[FR Doc. E7-3984 Filed 3-6-07; 8:45 am]

BILLING CODE 4163-18-P